FEDERAL COMMUNICATIONS COMMISSION

Public Information Collections Approved by The Office of Management and Budget (OMB)

May 7, 2010.

SUMMARY: The Federal Communications Commission has received Office of Management and Budget (OMB) approval for the following public information collection(s) pursuant to the Paperwork Reduction Act of 1995 (44 U.S.C. 3501-3520). The FCC may not conduct or sponsor a collection of information unless it displays a currently valid OMB control number, and no person is required to respond to a collection of information unless it displays a currently valid OMB control number.

DATES: Persons wishing to comment on this information collection should submit comments July 12, 2010. If you anticipate that you will be submitting comments, but find it difficult to do so within the period of time allowed by this notice, you should advise the contact listed below as soon as possible.

ADDRESSES: Direct all PRA comments to Nicolas A. Fraser, Office of Management and Budget (OMB), via fax at 202-395-5167, or via the Internet at Nicholas_A._Fraser@omb.eop.gov, and to Judith-b.Herman@fcc.gov, Federal Communications Commission (FCC), Room 1-B441, 445 12th Street, SW., Washington, DC 20554. To submit your PRA comments by e-mail send them to: PRA@fcc.gov.

FOR FURTHER INFORMATION CONTACT: For additional information about the information collection contact Judith B. Herman, OMD, 202-418-0214 or e-mail Judith-b.Herman@fcc.gov.

SUPPLEMENTARY INFORMATION:

OMB Control Number: 3060-1136.

OMB Approval Date: 03/29/2010.

OMB Expiration Date: 09/30/2010.

Title: Spectrum Dashboard Customer Feedback.

Form No.: N/A.

Estimated Annual Burden: 22,000 responses; .05 hours per response; 1,100 hours total per year.

Obligation to Respond: Voluntary.

Nature and Extent of Confidentiality: There is no need for confidentiality.

Needs and Uses: The Commission sought and obtained emergency OMB approval for this new information collection on March 29, 2010. This database of the frequency bands from 225 MHz-3.7 GHz available for non-federal uses, including nationwide broadband deployment.

The Commission will use the Spectrum Dashboard Customer Feedback database to obtain voluntary feedback from the wide range of stakeholders who will use the Spectrum Dashboard (e.g., individuals, licensees, manufacturers, entrepreneurs, industry analysts, regulators, and policy makers). In this regard, the Commission plans to keep the public engaged in an open and transparent dialogue regarding the utility of the software.

The Commission will use the information collected to help determine future improvements and enhancements to the Spectrum Dashboard.

Federal Communications Commission.
Marlene H. Dortch,
Secretary.

[FR Doc. 2010-11468 Filed 5-12-10; 8:45 am]

BILLING CODE 6712-01-P